DEPARTMENT OF THE INTERIOR

National Park Service

[NPS-WASO-NAGPRA-NPS0034711; PPWOCRADN0-PCU00RP14.R50000]

Notice of Inventory Completion: University of Michigan, Ann Arbor, MI

AGENCY: National Park Service, Interior.

ACTION: Notice.

SUMMARY: The University of Michigan has completed an inventory of human remains and associated funerary objects in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Michigan. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Michigan at the address in this notice by November 14, 2022.

FOR FURTHER INFORMATION CONTACT: Dr. Ben Secunda, NAGPRA Project Manager, University of Michigan, Office of Research, 3003 South State Street, First Floor, Wolverine Tower, Ann Arbor, MI 48109-1274, telephone (734) 764-1185, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from the Moccasin Bluff site (20BE08) in Berrien County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Michigan Museum of Anthropological Archaeology (UMMAA) professional staff in consultation with representatives of the Citizen Potawatomi Nation, Oklahoma; Forest County Potawatomi Community, Wisconsin; Hannahville Indian Community, Michigan; Match-e-be-nash-she-wish Band of Pottawatomi Indians of Michigan; Miami Tribe of Oklahoma; Nottawaseppi Huron Band of the Potawatomi, Michigan (previously listed as Huron Potawatomi, Inc.); Pokagon Band of Potawatomi Indians, Michigan and Indiana; and the Prairie Band Potawatomi Nation (previously listed as Prairie Band of Potawatomi Nation, Kansas) (hereafter referred to as “The Tribes”).

History and Description of the Remains

In 1948, human remains representing, at minimum, one individual were removed from the Moccasin Bluff site (20BE08) in Berrien County, MI, by UMMAA archeologist Hale Smith. Smith uncovered three burials while excavating a trench at the multi-component site. All the individuals were found buried in an extended position and oriented in the same direction. According to a publication, Smith identified three burials at the site, but he presumably only excavated one of the burials, which he then brought to the Museum. The date range for this burial is A.D. 1400-1820, based on the extended burial treatment, with individuals facing the same direction, and the associated funerary objects. All the human remains listed in this notice were excavated by Smith in 1948. The associated funerary objects came from excavations by Smith in 1948; Joseph Birdsell, who excavated the site in 1938, and donated some of the funerary objects he recovered to the UMMAA in 1947; and Arthur Jelinek, who excavated the site in 1961. The human remains are of one child ≤13 years old, of indeterminate sex. No known individual was identified. The nine associated funerary objects are one lot of earthenware vessel sections; four lots of earthenware body sherds; one lot of lithic flakes; one lot of earthenware body sherds and small sherd crumb; one lot of lithics, ceramic sherds, and unworked faunal bone fragments; and one lot of reconstructed sections of an earthenware vessel including rim and body sherds.

The human remains have been determined to be Native American based on mortuary treatment, diagnostic artifacts, and archeological context. A relationship of shared group identity can be reasonably traced between the Native American human remains from this site and the Potawatomi and Miami, based on archeological and historical records that indicate both Tribes had a predominant presence in the St. Joseph River Valley from the time of first contact with the French through the early-1800s. Both Tribes were known to have had close and friendly relations in this area. In the early-1800s, the Potawatomi leader Moccasin presided over a village in the immediate vicinity of the site (in present-day Buchanan, MI) on a bluff that now bears his name.

Determinations Made by the University of Michigan

Officials of the University of Michigan have determined that:

• Pursuant to 25 U.S.C. 3001(9), the human remains described in this notice represent the physical remains of one individual of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Ben Secunda, NAGPRA Project Manager, University of Michigan, Office of Research, 3003 South State Street, First Floor, Wolverine Tower, Ann Arbor, MI 48109-1274, telephone (734) 764-1185, email bsecunda@umich.edu, by November 14, 2022. After that date, if no additional requestors have come forward, transfer of control of the human remains and associated funerary objects to The Tribes may proceed.

The University of Michigan is responsible for notifying The Tribes that this notice has been published.

Dated: October 5, 2022.
Melanie O'Brien,
Manager, National NAGPRA Program.

[FR Doc. 2022-22336 Filed 10-13-22; 8:45 am]

BILLING CODE 4312-52-P